DEPARTMENT OF THE INTERIOR

National Park Service

[NPS-WASO-NAGPRA-NPS0025915;PPWOCRADN0-PCU00RP14.R50000]

Notice of Inventory Completion: Albuquerque Museum, Albuquerque, NM

AGENCY: National Park Service, Interior.

ACTION: Notice.

SUMMARY: The Albuquerque Museum has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Albuquerque Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Albuquerque Museum at the address in this notice by September 7, 2018.

ADDRESSES: Deb Slaney, History Curator, Albuquerque Museum, 2000 Mountain Road NW, Albuquerque, NM 87104 telephone (505) 243-7255, email dslaney@cabq.gov.

SUPPLEMENTARY INFORMATION: Notice is here given in accordance with the Native American Graves Protection and Repatriation Act (NAGPRA), 25 U.S.C. 3003, of the completion of an inventory of human remains and associated funerary objects under the control of the Albuquerque Museum, Albuquerque, NM. The human remains and associated funerary objects were removed from Mesa Prieta, King Ranch, Rio Puerco Valley, Sandoval County, NM; the Deming, Luna County, NM; and Jemez Pueblo, Sandoval County, NM.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Albuquerque Museum professional staff in consultation with representatives of the Pueblo of Acoma, New Mexico; Pueblo of Cochiti, New Mexico; and Pueblo of Santa Clara, New Mexico. The Kewa Pueblo, New Mexico (previously listed as the Pueblo of Santo Domingo); Ohkay Owingeh, New Mexico (previously listed as the Pueblo of San Juan); Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Taos; Pueblo of Tesuque, New Mexico; Pueblo of Zia, New Mexico; Ysleta del Sur Pueblo (previously listed as the Ysleta Del Sur Pueblo of Texas); and Zuni Tribe of the Zuni Reservation, New Mexico were contacted and invited to consult, but did not participate.

History and Description of the Remains

In 1967-1968, human remains representing, at minimum, three individuals were removed from Prieta Vista Pueblo in Sandoval County, NM. The human remains were excavated by Eastern New Mexico University in collaboration with the Albuquerque Archaeological Society in 1967-1968, and donated by the AAS to the Albuquerque Museum in 1977. Burial #1, PC1977.34.73, belongs to a two to four year old child, who was buried (with associated lithic debris) under a sandstone slab. The human remains are fragmentary and consist of a portion of the skull and rib cage. Burial #2, PC1977.34.74, belongs to a 10 to 11 year old child, and represents either a disturbed or a secondary burial. The human remains are fragmentary and were found with associated lithic debris. Burial #3, PC1977.34.75, belongs to an approximately 20-year-old adult female, who was buried with associated lithic debris and one lot of 4 St. Johns Polychrome potsherds. The human remains are fragmentary. No known individuals are identified. The 14 lots of associated funerary objects, PC1977.34.73-75, are 12 lots of lithic debris from Burials #1-3; one rectangular sandstone slab numbered AS3/270 associated with Burial #1, 30.3″ X 24.4″ X .7″; and one lot of St. Johns Polychrome potsherds associated with Burial #3.

The human remains were published in Richard A. Bice and William M. Sundt, Prieta Vista, A Small Pueblo II Ruin in North Central New Mexico. (Albuquerque: Albuquerque Archaeological Society, 1972). The cultural affiliation of the human remains and associated funerary objects is based upon geographical, kinship, biological, archeological, linguistic, folklore, oral tradition, historic evidence, other information, and expert opinion. Primary information sources include reviews of our accession and catalogue records conducted by museum staff and consultant Dena Lewis between 1991 and 2015, a review of archeological publications on Prieta Vista Pueblo, and consultation with Indian tribe officials and traditional religious leaders. The Pueblo of Acoma Review Committee participated in an on-site review of the human remains and associated funerary objects, the Committee declined to view them, but indicated that the people of Prieta Vista Pueblo could be of Keres or Tanoan affiliation, and they would consult with other pueblos regarding repatriation. The Pueblo of Cochiti Review Committee consulted the inventory on site but did not participate in a physical review of the human remains and associated funerary objects. The Committee indicated that it would consult with the Pueblos of Zuni, Acoma, Hopi, and Zia regarding the cultural affiliation of the human remains. The Pueblo of Santa Clara Review Committee reviewed the human remains and associated funerary objects, but did not provide a cultural attribution for them. The geographical location of Prieta Vista Pueblo is consistent with the historically documented territory of the Keres people. Bice and Sundt (1972:200) conclude that the site is most likely affiliated with the Pueblo of Zia or a Tewa-speaking pueblo, and Dena Lewis (1991:111) concludes that the site is most likely affiliated with the Pueblo of Zia.

At a date prior to 1974, human remains representing, at minimum, one individual were removed from an unknown location in the vicinity of Deming, Luna Co., NM. The human remains were donated to the Museum by a New Mexico collector in 1974. The remains, PC1974.9.29, belong to a cremation. The age and sex of the remains are unknown. The one associated funerary object, PC1974.9.29, is a small Three Circle Neck Corrugated clay jar.

The remains are dated C.E. 900 to 1000 based on the date of the jar. The cultural affiliation of the human remains and associated funerary objects is based upon geographical, kinship, biological, archeological, linguistic, folklore, oral tradition, historic evidence, other information, and expert opinion. Primary information sources include reviews of our accession and catalogue records conducted by museum staff and consultant Dena Lewis between 1991 and 2015, and consultation Indian tribe officials and traditional religious leaders. The geographical location of Deming, NM, is consistent with the historically documented territory of the Mimbres people. The cremation was identified as Mimbres by Dr. Cynthia Bettison, Director, Western New Mexico University Museum. The Pueblo of Acoma Review Committee participated in an on-site review of the human remains and associated funerary objects, but did not review or confirm the cultural affiliation of the remains and jar. The Pueblo of Cochiti Review Committee consulted the inventory while on site but did not participate in a physical review of the human remains and associated funerary objects. The Committee indicated it would consult with the Pueblos of Zuni, Acoma, Hopi, and Zia regarding cultural affiliation of the remains. The Pueblo of Santa Clara Review Committee reviewed the human remains and associated funerary objects, but declined to provide a cultural attribution for them.

At a date prior to 1974, human remains representing, at minimum, one individual was removed from an unknown location in the vicinity of the Pueblo of Jemez, Sandoval County, NM. The human remains, PC1976.83, were collected near the Pueblo of Jemez by the Albuquerque High School Archeology Club, and donated to the Albuquerque Museum in 1974. The age and sex of the human remains are unknown. No known individuals were identified. The 10 associated funerary objects, PC1976.83, are one bird bone flute, and nine samples of worked and unworked animal bone.

The human remains belong to an inhumation and include cranial bones. The date of the human remains and associated funerary objects is unknown. Cultural affiliation of the human remains and associated funerary objects is based upon geographical, kinship, biological, archeological, linguistic, folklore, oral tradition, historic evidence, other information, and expert opinion. Primary information sources include reviews of our accession and catalogue records conducted by museum staff and consultant Dena Lewis between 1991 and 2015, and consultation with Indian tribe officials and traditional religious leaders. The proximity of the collection location is geographically consistent with the historically documented territory of Jemez Pueblo. The Pueblo of Acoma Review Committee participated in an on-site review of the human remains and associated funerary objects, but did not review or confirm the cultural affiliation of the remains and associated funerary objects. The Pueblo of Cochiti Review Committee consulted the inventory while on site, but did not participate in a physical review of the human remains and associated funerary objects. The Committee indicated that it would consult with the Pueblos of Zuni, Acoma, Hopi, and Zia regarding the cultural affiliation of the remains. The Pueblo of Santa Clara Review Committee reviewed the human remains and associated funerary objects, but declined to identify a cultural affiliation for them.

At a date prior to 1974, human remains representing, at minimum, one individual were removed from an unknown location in the vicinity of Deming, Luna County, NM. The human remains, UA146.1, were likely collected by the Albuquerque High School Archeology Club and donated to the Albuquerque Museum in 1974. The age and sex of the human remains is unknown.

The human remains and associated funerary objects are believed to be collected by the AHS Archeology Club because “AHS” was written on the box in which they were contained. No known individuals were identified. The nine associated funerary objects, UA146.1, are one bone awl and eight bone beads of unknown species and date. Cultural affiliation of the human remains and associated funerary objects listed is based upon geographical, kinship, biological, archeological, linguistic, folklore, oral tradition, historic evidence, other information, and expert opinion. Primary information sources include reviews of our accession and catalogue records conducted by museum staff and consultant Dena Lewis between 1991 and 2015, a review of archaological publications on Prieta Vista Pueblo and Tonque Pueblo, and consultation with Indian tribe officials and traditional religious leaders. The location where the human remains are believed to have been collected lies within the historically documented territory of Jemez Pueblo. The Pueblo of Acoma Review Committee participated in an on-site review of the human remains and associated funerary objects, but declined to view them or identify a cultural affiliation of the remains and associated funerary objects. The Pueblo of Cochiti Review Committee consulted the inventory while on site, but did not participate in a physical review of the human remains and associated funerary objects. The Committee indicated that it would consult with the Pueblos of Zuni, Acoma, Hopi, and Zia regarding the cultural affiliation of the remains, and that the human remains and associated funerary objects should be stored separately from the other collections. The Pueblo of Santa Clara Review Committee reviewed the human remains and associated funerary objects, and offered to consult with other Pueblos regarding repatriation.

Determinations Made by the Albuquerque Museum

Officials of the Albuquerque Museum have determined that:

• Pursuant to 25 U.S.C. 3001(9), the human remains described in this notice represent the physical remains of six individuals of Native American ancestry.

• Pursuant to 25 U.S.C. 3001(3)(A), the 34 objects described in this notice are reasonably believed to have been placed with or near individual human remains at the time of death or later as part of the death rite or ceremony.

• Pursuant to 25 U.S.C. 3001(2), there is a relationship of shared group identity that can be reasonably traced between the Native American human remains and associated funerary objects and the Hopi Tribe of Arizona; Kewa Pueblo, New Mexico (previously listed as the Pueblo of Santo Domingo); Ohkay Owingeh, New Mexico (previously listed as the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Tesuque, New Mexico; Pueblo of Zia, New Mexico; and Zuni Tribe of the Zuni Reservation, New Mexico (hereafter referred to as “The Tribes”).

Additional Requestors and Disposition

Lineal descendants or representatives of any Indian Tribe or Native Hawaiian organization not identified in this notice that wish to request transfer of control of these human remains and associated funerary objects should submit a written request with information in support of the request to Deb Slaney, History Curator, Albuquerque Museum, 2000 Mountain Road NW, Albuquerque, NM 87104, telephone (505) 243-7255, email dslaney@cabq.gov, by September 7, 2018. After that date, if no additional requestors have come forward, transfer of control of the human remains and associated funerary objects to The Tribes may proceed.

The Albuquerque Museum is responsible for notifying The Tribes that this notice has been published.

Dated: June 29, 2018.
Melanie O'Brien,
Manager, National NAGPRA Program.

[FR Doc. 2018-16926 Filed 8-7-18; 8:45 am]

BILLING CODE 4312-52-P